DEPARTMENT OF ENERGY

Federal Energy Regulatory Commission

[Docket No. EC01-67-000]

Indiana Michigan Power Company; Notice of Filing

February 28, 2001.

Take notice that on February 22, 2001, Indiana Michigan Power Company (I&M), a wholly-owned subsidiary of American Electric Power, Inc., a public utility holding company filed with the Federal Energy Regulatory Commission a supplement to its application filed on February 12, 2001 pursuant to section 203 of the Federal Power Act for authorization of a disposition of jurisdictional facilities to Wabash Valley Power Association (WVPA). I&M has agreed to sell to WVPA for $550,000 approximately 15 miles of 34.5 kV transmission lines used to deliver power primarily to WVPA member Midwest Energy Cooperative (formerly Fruit Belt Electric Cooperative).

Copies of I&M's filing were served upon WVPA and the public service commissions of Indiana and Michigan.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 9, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5339 Filed 3-5-01; 8:45 am]

BILLING CODE 6717-01-M